DEPARTMENT OF COMMERCE

Office of the Secretary

Proposed Information Collection; Comment Request; Commerce.Gov Web Site User Survey

AGENCY: Office of the Secretary, Office of Public Affairs.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 7, 2011.

ADDRESSES: Direct all written comments to Diana Hynek, Departmental Paperwork Clearance Officer, Department of Commerce, Room 6616, 14th and Constitution Avenue, NW., Washington, DC 20230 or via the Internet at dHynek@doc.gov.

FOR FURTHER INFORMATION CONTACT: Requests for additional information or copies of the information collection instrument and instructions should be directed to Mike Kruger, Office of Public Affairs, U.S. Department of Commerce at 202-482-4883 or mkruger@doc.gov.

SUPPLEMENTARY INFORMATION:

I. Abstract

In order to better serve users of Commerce.gov and the Department of Commerce bureaus' Web sites, the Offices of Public Affairs will collect information from users about their experience on the Web sites. A random number of users will be presented with a pop-up box asking if they would like to take a survey. If they say no, the box disappears and the user continues on as normal. If they answer yes, then the box offers them four (4) questions.

1. Based on today's visit, how would you rate your site experience overall? (0 to 10 scale)

2. Which of the following best describes the primary purpose of your visit? (Custom choices)—would be the items in our “I Want to” bar on the right hand side of the Commerce.gov site:

• Find jobs or career opportunities at Commerce.

• Call or send an email or letter to Commerce.

• Learn more about Commerce Secretary Gary Locke.

• Find a recent press release.

• Learn more about Census 2010.

• Discover grants, contracting & trade opportunities with Commerce.

• Get the official U.S. time from NIST.

• Get my local weather from the National Weather Service.

• Other.

3. Were you able to complete the purpose of your visit today? (Yes, No)

One of the following two (2) questions are posed to respondents based on their answers to Question 3. (4.1, if answer was Yes; and 4.2, if answer was No)

4.1 What do you value most about the Department of Commerce's Web site? (Open ended)

4.2 Please tell us why you were not able to fully complete the purpose of your visit today? (Open ended)

The survey is provided by iPerceptions as part of their 4Q suite. No personally identifiable information will be collected from the voluntary participants.

II. Method of Collection

Information will be collected via an online form.

III. Data

OMB Control Number: None.

Form Number(s): None.

Type of Review: Regular submission (new information collection).

Affected Public: Individuals or households, Business or other for-profit organizations, State, Local, or Tribal government, Federal government.

Estimated Number of Respondents: 36,000.

Estimated Time per Response: 2 minutes.

Estimated Total Annual Burden Hours: 1,200.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 2, 2010.
Gwellnar Banks,
Management Analyst, Office of the Chief Information Officer.

[FR Doc. 2010-30654 Filed 12-6-10; 8:45 am]

BILLING CODE 3510-03-P